FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

CMX Global Logistics, LLC (NVO & OFF), 841 Apollo Street, Suite 450, El Segundo, CA 90245. Officers: Cody N. Shawe, Manager (QI), Grant J. Seeley, Member/Manager. Application Type: QI Change

Felix Logistics, Inc. (NVO & OFF), 6281 Beach Blvd., Suite 312, Buena Park, CA 90621. Officer: Brian B. Kim, President (QI). Application Type: New NVO & OFF License

Flexport International LLC (NVO & OFF), 300 Brannan Street, Suite 510, San Francisco, CA 94107. Officers: Michael Baekboel, Manager (QI), Ryan Petersen, Manager. Application Type: New NVO & OFF License

Focuscargo Inc dba Action Cargo Inc (NVO & OFF), 2712 NW 112 Avenue, Miami, FL 33172. Officer: Justo Aguiar, President (QI). Application Type: New NVO & OFF License

Hopeway Inc dba Hopeway Logistics Co (NVO & OFF), 17870 Castleton Street, Suite 118, City of Industry, CA 91748. Officers: Qiu Sheng (a.k.a. David) Zhang, Vice President (QI), Chun Lin, CEO. Application Type: New NVO & OFF License

VDS USA Inc (NVO), 18321 S. Western Avenue, Suite K, Gardena, CA 90248. Officers: Dongwon Lee, CEO (QI), Chang Suk Oh, Secretary. Application Type: New NVO License

By the Commission.
Dated: September 12, 2014.
Rachel E. Dickon,
Assistant Secretary.

[FR Doc. 2014-22387 Filed 9-18-14; 8:45 am]

BILLING CODE 6730-01-P